DEPARTMENT OF STATE

22 CFR Part 42

[Public Notice 4185]

Documentation of Immigrants—Visa Classification Symbols; Correction

AGENCY: Department of State.

ACTION: Correction of final rule.

SUMMARY: This document makes corrections to the final rule published on August 29, 2002 (67 FR 55319). The regulation made changes to the Department's table of immigrant visa classification symbols.

EFFECTIVE DATE: This rule is effective November 27, 2002.

FOR FURTHER INFORMATION CONTACT: Pam Chavez, Legislation and Regulations Division, 202-663-1206.

SUPPLEMENTARY INFORMATION: The Department of State published a final rule (Public Notice 4092) in the Federal Register of August 9, 2002, (67 FR 55319) amending § 42.11 by inadvertently substituting the word “child” for “orphan.” in the definition of the IR4 category on the visa classification table. This correction removes that amendment published on August 9, 2002, and revises the AM1 category under the heading “Section of law” to read “584(b)(1)(C),” not “584(b)(2)(C).”

In rule FR Doc. 02-20090 published on August 29, 2002 (67 FR 55319), make the following correction. On page 55320, in the table to § 42.11:

a. In the entry for IR4, remove “Child” and add “Orphan” in its place; and

b. In the entry for AM1, remove “584(b)(2)(C)” and add “584(b)(1)(C)” in its place.

Dated: November 19, 2002.
Timothy Egert,
Federal Register Liaison, Department of State.

[FR Doc. 02-29763 Filed 11-26-02; 8:45 am]

BILLING CODE 4710-06-P